DEPARTMENT OF TRANSPORTATION

National Highway Traffic Safety Administration

49 CFR Part 572

[Docket No. NHTSA-2000-8057]

RIN 2127-AH87

Anthropomorphic Test Dummy; Occupant Crash Protection

AGENCY: National Highway Traffic Safety Administration (NHTSA), Department of Transportation.

ACTION: Notice of proposed rulemaking.

SUMMARY: This document proposes to amend the neck lateral calibration specifications for the SID/HIII dummy. This dummy is employed in side impact pole tests which assess the effectiveness of dynamically deployed head impact protection systems. In these tests, the subject vehicle is towed sideways into a pole in such a way that the vehicle impacts the pole at a point corresponding to the center of gravity of the head of a seated SID/HIII dummy. Data collected from these tests are used to evaluate the performance of the head impact protection system.

This document responds to a petition for rulemaking filed by the Alliance of Automobile Manufacturers. That petition indicates that the current neck lateral bending calibration corridor specified for the SID/HIII dummy is incorrectly defined. After reviewing the petition and various data, the agency is proposing that the corridor specifications be revised.

DATES: You should submit your comments early enough to ensure that Docket Management receives them not later than January 16, 2001.

ADDRESSES: You should mention the docket number of this document in your comments and submit your comments in writing to: Docket Management, Room PL-401, 400 Seventh Street, SW., Washington, DC, 20590.

You may call Docket Management at 202-366-9324. You may visit the Docket from 10:00 a.m. to 5:00 p.m., Monday through Friday.

FOR FURTHER INFORMATION CONTACT: For non-legal issues, you may call Stan Backaitis, Office of Crashworthiness Standards at 202-366-4912.

For legal issues, you may call Otto Matheke, Office of the Chief Counsel, at 202-366-2992.

You may send mail to both of these officials at National Highway Traffic Safety Administration, 400 Seventh St., SW., Washington, DC, 20590.

SUPPLEMENTARY INFORMATION:

A. Background

Federal Motor Vehicle Safety Standard (FMVSS) No. 201, Head Impact Protection, provides a number of alternative performance requirements for manufacturers of vehicles with dynamically deployed interior head protection systems. One of these alternatives uses a test in which a vehicle is propelled sideways at a speed of 29 km/h (18 mph) into a 254 mm (10 inch) diameter rigid pole. A Part 572 Subpart M anthropomorphic test dummy is placed in the outboard front seat on the struck side of the vehicle.

The specifications for the Subpart M dummy, known as SID/HIII, were established by a final rule published in the Federal Register on August 4, 1998 (63 FR 41466). The SID/HIII is based on two other dummies: (1) The Part 572, Subpart F anthropomorphic test device (Side Impact Dummy or SID) that is used in testing under FMVSS 214, Side Impact Protection, and (2) the Part 572, Subpart E anthropomorphic test device (Hybrid III or HIII) that is used in testing under FMVSS 208, Occupant Crash Protection. The SID/HIII combines the head and neck of the Hybrid III with the torso and lower extremities of the Side Impact Dummy through the use of a redesigned neck to torso adapter bracket.

As the performance of the dummy is critical in any test, the specifications for the SID/HIII include calibration tests used to validate the characteristics of the individual device. One of these tests is the neck lateral bending corridor. It establishes maximum and minimum values for the dummy neck that it must meet when subjected to a calibration test in lateral impact direction.

B. Petition for Rulemaking

On July 28, 1999, the Alliance of Automobile Manufacturers (Alliance) submitted a Petition for Technical Correction indicating that the specified lateral impact neck corridor for the SID/HIII dummy does not reflect the neck stiffness of the Hybrid III dummy as originally specified by the SAE Side Impact Dummy Task Force (SIDTF) in the minutes of the Task Force meeting of April 15, 1989. According to the Alliance, subsequent to the April 5, 1989 meeting, the SIDTF made a transcription error when it drew up lateral calibration specifications for the Hybrid III neck. The Alliance stated that the erroneous calibration specifications were carried forward and incorporated by the SAE in the BioSID user manual in 1989. As the BioSid neck and the Hybrid III neck are identical and the BioSid user manual was the only publication available to the public containing the lateral neck calibration values, the erroneous values were used by NHTSA in rulemaking for the SID/HIII dummy.

The agency proposed the SID/HIII dummy on December 8, 1997 and adopted it into Part 572 as Subpart M on August 4, 1998. The SID/HIII dummy incorporated the erroneous neck specifications that were contained in the BioSID user manual. As a result of this error, the lateral calibration corridor specified a neck that was stiffer in bending in the lateral direction than in the flexion and extension directions. Existing biomechanical data indicates that the human neck is not stiffer in the lateral direction but actually has similar bending stiffness in both directions. The Alliance petition of July 28, 1999, based on recommendations from the SAE Dummy Test and Equipment Subcommittee (DTES), suggested that the lateral neck calibration corridor be revised so the allowable neck bending stiffness moment for the SID/HIII in the lateral direction would be limited to a range between 73 N-m (54 ft-lbs) and 97 N-m (72 ft-lbs).

After receiving the Alliance petition, the agency reviewed the data and methodology used by that organization to determine the adequacy of the recommended change to the lateral neck calibration corridor. NHTSA's analysis of the corridor, suggested by the Alliance, revealed inconsistencies between the Alliance proposed corridor and the corridor specifications recommended by the DTES after the DTES discovered and revised the earlier error. The agency found that the corridor suggested by the Alliance was broader than could be justified by biomechanical data and would result in necks that are likely to be too stiff as well as having a wide degree of variability. Following discussions between agency representatives and the Alliance regarding these problems, the Alliance submitted a letter to the agency on January 12, 2000, indicating that it wished to revise its petition of July 28, 1999, and substitute new corridor specifications. The specifications suggested by the Alliance on January 12, 2000, and the current specifications for the SID/HIII are presented below:

| Current SID/H III | Alliance suggestion
Maximum Rotation (degrees) | 64-78 | 66-82
Decay time from max rotation to 0 (ms) | 50-70 | 58-67
Time between max moment and max rotation (ms) | 0-20 | 2-15
Max moment at occipital condyles (N-m) | 88-108 | 73-88
Decay time from max moment to 0 (ms) | 40-60 | 49-63

C. Proposed Rule

After careful consideration of the Alliance petition and the revised specifications suggested by the Alliance on January 12, 2000, HTSA is proposing to amend the lateral neck calibration corridor for the SID/HIII dummy. The agency's proposal adopts the recommendations submitted by the Alliance in its January 12, 2000 letter with the exception of (1) the decay time from maximum rotation to zero rotation and (2) the time between maximum moment and maximum rotation.

The agency proposal is based on the review of the calibration data submitted by the Alliance and the agency's own calibration tests on a number of Hybrid III necks. NHTSA's own test program indicated that many of the specifications submitted by the Alliance in the January 12, 2000 were valid. However, the agency's testing also indicated that the upper time limits for the time between maximum moment and maximum rotation, and the decay time from max rotation to zero rotation should be increased by 1 ms from 15 ms to 16 ms and from 63 to 64 ms, respectively. Accordingly, NHTSA is proposing that the neck lateral calibration corridor for the SID/HIII dummy be amended to specify the following values:

| Current SID/H III | NHTSA proposal
Maximum Rotation (degrees) | 66-82 | 66-82
Decay time from max totation to 0 (ms) | 58-67 | 58-67
Time between max moment and max rotation (ms) | 2-15 | 2-16
Max moment at occipital condyles (N-m) | 73-88 | 73-88
Decay time from max moment to 0 (ms) | 49-63 | 49-64

D. Comment Period

The agency notes that the SID/HIII is currently being used to test the compliance of dynamic head protection systems that are both in production vehicles and under development. Existing data indicate that the current neck lateral calibration corridor is inappropriate and results in a dummy that is not as biofidelic as one that is calibrated using the proposed corridor. NHTSA believes that the proposed calibration corridor, as a correction of a corridor that was developed in error, should be adopted as soon as possible. Similarly, the agency also believes that the changes it is now proposing will be generally accepted as valid and should not generate significant comment or controversy. We have therefore decided that in the interest of expediting this rulemaking action, that any and all comments should be submitted within 30 days of the publication on this proposal.

Rulemaking Analyses and Notices

A. Executive Order 12866 and DOT Regulatory Policies and Procedures

NHTSA has considered the impact of this rulemaking action under Executive Order 12866 and the Department of Transportation's regulatory policies and procedures. This rulemaking document was not reviewed by the Office of Management and Budget under E.O. 12866, “Regulatory Planning and Review.” The rulemaking action has been determined not to be significant under the Department's regulatory policies and procedures.

This document proposes to amend 49 CFR part 572 by modifying the existing specifications for calibrating the dummy's neck to ensure that accurate and reliable data are generated in testing. If this proposed rule becomes final, it would affect only those businesses that choose to manufacture or test with the dummy. It does not impose any requirements on anyone.

We believe that the economic impacts of this proposal, if any, would be limited to the costs of recalibrating and perhaps modifying existing dummy necks. We estimate that these costs, if they arise, would be limited to less than $100 per dummy.

Because the economic impacts of this proposal are so minimal, no further regulatory evaluation is necessary.

B. Regulatory Flexibility Act

NHTSA has considered the effects of this rulemaking action under the Regulatory Flexibility Act (5 U.S.C. 601 et seq.) I hereby certify that the proposed amendment would not have a significant economic impact on a substantial number of small entities. This proposal would modify existing specifications for a dummy test device used by manufacturers if they decide to employ an optional test procedure under Standard 201. The costs associated with the changes to the neck lateral calibration corridor are minimal. Further, this rule primarily affects passenger car and light truck manufacturers which are not small entities under 5 U.S.C. 605(b). The Small Business Administration's regulations at 13 CFR Part 121 define a small business, in part, as a business entity “which operates primarily within the United States.” (13 CFR 121.105(a)). The agency estimates that there are at most five small manufacturers of passenger cars in the U.S. and no small manufacturers of light trucks, producing a combined total of at most 500 cars each year. These small manufacturers, if they choose to perform the optional side impact pole test that employs this particular test device, would have to use the proposed neck lateral calibration corridor when validating the dummy for use in testing. As noted above, the agency believes that any costs associated with the use of the proposed calibration corridor would be minimal. Further, most small entities do not perform full scale crash tests themselves but instead rely on vehicle manufacturers or test laboratories to perform such tests. Both manufacturers and test laboratories are likely to have recalibrated dummy necks readily available at no increased cost when performing testing for small manufacturers.

For these reasons, NHTSA believes that this final rule does not have a significant impact on any small business.

C. National Environmental Policy Act

NHTSA has analyzed this proposed amendment for the purposes of the National Environmental Policy Act and determined that it would not have any significant impact on the quality of the human environment.

D. Executive Order 13132 (Federalism)

The agency has analyzed this rulemaking in accordance with the principles and criteria contained in Executive Order 13132 and has determined that it does not have sufficient federalism implications to warrant consultation with State and local officials or the preparation of a federalism summary impact statement. The final rule has no substantial effects on the States, or on the current Federal-State relationship, or on the current distribution of power and responsibilities among the various local officials.

E. Unfunded Mandates Act

The Unfunded Mandates Reform Act of 1995 requires agencies to prepare a written assessment of the costs, benefits and other effects of proposed or final rules that include a Federal mandate likely to result in the expenditure by State, local or tribal governments, in the aggregate, or by the private sector, of more than $100 million annually (adjusted for inflation with base year of 1995). This proposal does not meet the definition of a Federal mandate because it does not impose requirements on anyone. In addition, annual expenditures would not exceed the $100 million threshold.

F. Executive Order 12778 (Civil Justice Reform)

This proposed rule would not have any retroactive effect. Under 49 U.S.C. 30103, whenever a Federal motor vehicle safety standard is in effect, a State may not adopt or maintain a safety standard applicable to the same aspect of performance which is not identical to the Federal standard, except to the extent that the state requirement imposes a higher level of performance and applies only to vehicles procured for the State's use. 49 U.S.C. 30161 sets forth a procedure for judicial review of final rules establishing, amending or revoking Federal motor vehicle safety standards. That section does not require submission of a petition for reconsideration or other administrative proceedings before parties may file suit in court.

G. Paperwork Reduction Act

In accordance with the Paperwork Reduction Act of 1980 (P.L. 96-511), there are no requirements for information collection associated with this proposed rule.

H. National Technology Transfer and Advancement Act

Section 12(d) of the National Technology Transfer and Advancement Act of 1995 (NTTAA), Public Law 104-113, section 12(d) (15 U.S.C. 272) directs us to use voluntary consensus standards in its regulatory activities unless doing so would be inconsistent with applicable law or otherwise impractical. Voluntary consensus standards are technical standards (e.g., materials specifications, test methods, sampling procedures, and business practices) that are developed or adopted by voluntary consensus standards bodies, such as the Society of Automotive Engineers (SAE). The NTTAA directs us to provide Congress, through OMB, explanations when we decide not to use available and applicable voluntary consensus standards.

The neck lateral calibration corridor that is the subject of this document was developed under the auspices of the SAE Dummy Test and Equipment Subcommittee. The following voluntary consensus standards have been used in developing the proposed neck lateral calibration corridor: SAE J211 Recommended Practice for Crash Tests Instrumentation, SAE J1460 Human Mechanical Response Characteristics, and ISO/TR 9790-2 -Road Vehicles-Anthropomorphic Side Impact Dummy-Part 2: Lateral Neck Impact Response Requirements to Assess Biofidelity of Dummy.

I. Executive Order 13045

Executive Order 13045 (62 FR 19885, April 23, 1997) applies to any rule that: (1) Is determined to be “economically significant” as defined under E.O. 12866, and (2) concerns an environmental, health or safety risk that NHTSA has reason to believe may have a disproportionate effect on children. If the regulatory action meets both criteria, we must evaluate the environmental health or safety effects of the planned rule on children, and explain why the planned regulation is preferable to other potentially effective and reasonably feasible alternatives considered by us.

This proposal is not subject to the Executive Order because it is not economically significant as defined in E.O. 12866, and does not have a disproportionate effect on children. The proposed rule seeks to change the calibration values for a test dummy neck. Other than ensuring that the test dummy more accurately replicates the adult human neck in side impacts, the proposed rule has no impact on children.

Comments

How do I prepare and submit comments?

Your comments must be written and in English. To ensure that your comments are correctly filed in the Docket, please include the docket number of this document in your comments.

Your comments must not be more than 15 pages long. (49 CFR 553.21). We established this limit to encourage you to write your primary comments in a concise fashion. However, you may attach necessary additional documents to your comments. There is no limit on the length of the attachments.

Please submit two copies of your comments, including the attachments, to Docket Management at the address given above under ADDRESSES.

How can I be sure that my comments were received?

If you wish Docket Management to notify you upon its receipt of your comments, enclose a self-addressed, stamped postcard in the envelope containing your comments. Upon receiving your comments, Docket Management will return the postcard by mail.

How do I submit confidential business information?

If you wish to submit any information under a claim of confidentiality, you should submit three copies of your complete submission, including the information you claim to be confidential business information, to the Chief Counsel, NHTSA, at the address given above under FOR FURTHER INFORMATION CONTACT. In addition, you should submit two copies, from which you have deleted the claimed confidential business information, to Docket Management at the address given above under ADDRESSES. When you send a comment containing information claimed to be confidential business information, you should include a cover letter setting forth the information specified in our confidential business information regulation. (49 CFR part 512.)

Will the agency consider late comments?

We will consider all comments that Docket Management receives before the close of business on the comment closing date indicated above under DATES. To the extent possible, we will also consider comments that Docket Management receives after that date. If Docket Management receives a comment too late for us to consider it in developing a final rule (assuming that one is issued), we will consider that comment as an informal suggestion for future rulemaking action.

How can I read the comments submitted by other people?

You may read the comments received by Docket Management at the address given above under ADDRESSES. The hours of the Docket are indicated above in the same location.

You may also see the comments on the Internet. To read the comments on the Internet, take the following steps:

1. Go to the Docket Management System (DMS) Web page of the Department of Transportation (http://dms.dot.gov/).

2. On that page, click on “search.”

3. On the next page (http://dms.dot.gov/search/), type in the four-digit docket number shown at the beginning of this document. Example: If the docket number were “NHTSA-1998-1234,” you would type “1234.” After typing the docket number, click on “search.”

4. On the next page, which contains docket summary information for the docket you selected, click on the desired comments. You may word search the Adobe pdf version of a comment by clicking on the binocular symbol (Acrobat Find) and typing in a search term. You may also download the comments.

Please note that even after the comment closing date, we will continue to file relevant information in the Docket as it becomes available. Further, some people may submit late comments. Accordingly, we recommend that you periodically check the Docket for new material.

List of Subjects in 49 CFR Part 572

Motor vehicle safety.

In consideration of the foregoing, NHTSA proposes to amend 49 CFR Part 572 as follows:

PART 572—ANTHROPOMORPHIC TEST DUMMIES

1. The authority citation for Part 572 would continue to read as follows:

Authority: 49 U.S.C. 332, 30111, 30115, 30117; and 30166 delegation of authority at 49 CFR 1.50.

Subpart M—Side Impact Hybrid Dummy 50th Percentile Male

2. 49 CFR Part 572 would be amended by revising § 572.113(b)(2), (b)(3) and (b)(4) to read as follows:

* * * * *

§ 572.113 Neck assembly.

* * * * *

(b) * * *

(2) The maximum rotation of the midsagittal plane of the head shall be 66 to 82 degrees with respect to the pendulum's longitudinal centerline. The decaying head rotation vs. time curve shall cross the zero angle between 58 to 67 ms after reaching its peak value.

(3) The moment about the x-axis which coincides with the midsagittal plane of the head at the level of the occipital condyles shall have a maximum value between 73 and 88 Nm. The decaying moment vs. time curve shall first cross zero moment between 49 and 64 ms after reaching its peak value. The following formula is to be used to calculate the moment about the occipital condyles when using the six-axis neck transducer:

M = Mx + 0.01778 Fy

Where Mx and Fy are the moment and force measured by the transducer and expressed in terms of Nm and N, respectively.

(4) The maximum rotation of the head with respect to the pendulum's longitudinal centerline shall occur between 2 and 16 ms after peak moment.

Issued on November 21, 2000.
Noble N. Bowie,
Acting Associate Administrator for Safety Performance Standards.

[FR Doc. 00-30305 Filed 11-28-00; 8:45 am]

BILLING CODE 4910-59-P